SOCIAL SECURITY ADMINISTRATION

[Docket No: SSA-2022-0053]

Agency Information Collection Activities: Proposed Request

The Social Security Administration (SSA) publishes a list of information collection packages requiring clearance by the Office of Management and Budget (OMB) in compliance with Public Law 104-13, the Paperwork Reduction Act of 1995, effective October 1, 1995. This notice includes one revision of an OMB-approved information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

Office of Management and Budget (OMB), Attn: Desk Officer for SSA, Comments: https://www.reginfo.gov/public/do/PRAMain. Submit your comments online referencing Docket ID Number [SSA-2022-0053].

Social Security Administration (SSA), OLCA, Attn: Reports Clearance Director, 3100 West High Rise, 6401 Security Blvd., Baltimore, MD 21235, Fax: 410-966-2830, Email address: OR.Reports.Clearance@ssa.gov.

Or you may submit your comments online through https://www.reginfo.gov/public/do/PRAMain, referencing Docket ID Number [SSA-2022-0053].

The information collection below is pending at SSA. SSA will submit it to OMB within 60 days from the date of this notice. To be sure we consider your comments, we must receive them no later than December 13, 2022. Individuals can obtain copies of the collection instrument by writing to the above email address.

Certificate of Coverage Request—20 CFR 404.1913—0960-0554

The United States (U.S.) has agreements with 30 foreign countries to eliminate double Social Security coverage and taxation where, except for the provisions of the agreement, a worker would be subject to coverage and taxes in both countries. These agreements contain rules for determining the country under whose laws the worker's period of employment is covered, and to which country the worker will pay taxes. The agreements further dictate that, upon the request of the worker or employer, the country under whose system the period of work is covered will issue a certificate of coverage. The certificate serves as proof of exemption from coverage and taxation under the system of the other country. The information we collect assists us in determining a worker's coverage and in issuing a U.S. certificate of coverage as appropriate. Per our agreements, we ask a set number of questions to the workers and employers prior to issuing a certificate of coverage; however, our agreements with Denmark, Netherlands, Norway, and Sweden require us to ask more questions in those countries. Respondents are workers and employers wishing to establish exemption from foreign Social Security taxes.

Type of Request: Revision of an OMB-approved information collection.

Modality of completion | Number of respondents | Frequency of response | Average burden per response (minutes) | Estimated total annual burden (hours) | Average theoretical hourly cost amount (dollars)* | Total annual opportunity cost (dollars) **
Requests via Letter—Individuals (minus Denmark, Netherlands, Norway, Poland & Sweden) | 5,833 | 1 | 40 | 3,889 | $28.01 * | $108,931 **
Requests via Internet—Individuals (minus Denmark, Netherlands, Norway, Poland & Sweden) | 9,761 | 1 | 40 | 6,507 | 28.01 * | 182,261 **
Requests via Letter—Individuals in Denmark, Netherlands, Norway, & Sweden | 284 | 1 | 44 | 208 | 28.01 * | 5,826 **
Requests via Letter—Individuals in Poland | 16 | 1 | 41 | 11 | 28.01 * | 308 **
Requests via Internet—Individuals in Denmark, Netherlands, Norway, & Sweden | 427 | 1 | 44 | 313 | 28.01 * | 8,767 **
Requests via Internet—Individuals in Poland | 25 | 1 | 41 | 17 | 28.01 * | 476 *
Requests via Letter—Employers (minus Denmark, Netherlands, Norway, Poland & Sweden) | 26,047 | 1 | 40 | 17,365 | 28.01 * | 486,394 **
Requests via Internet—Employers (minus Denmark, Netherlands, Norway, Poland, & Sweden) | 39,096 | 1 | 40 | 26,064 | 28.01* | 730,053**
Requests via Letter—Employers in Denmark, Netherlands, Norway, & Sweden | 1,137 | 1 | 44 | 834 | 28.01 * | 23,360 **
Requests via Letter—Employers in Poland | 57 | 1 | 41 | 39 | 28.01 * | 1,092 **
Requests via Internet—Employers in Denmark, Netherlands, Norway, & Sweden | 1,704 | 1 | 44 | 1,250 | 28.01 * | 35,013 **
Requests via Internet—Employers in Poland | 86 | 1 | 41 | 59 | 28.01 * | 1,653 **
Totals | 84,473 |  |  | 56,556 |  | 1,584,134 **
* We based this figure on average U.S. citizen's hourly salary, as reported by Bureau of Labor Statistics data (https://www.bls.gov/oes/current/oes_nat.htm).
** This figure does not represent actual costs that SSA is imposing on recipients of Social Security payments to complete this application; rather, these are theoretical opportunity costs for the additional time respondents will spend to complete the application. There is no actual charge to respondents to complete the application.

Dated: October 7, 2022.
Naomi Sipple,
Reports Clearance Officer, Social Security Administration.

[FR Doc. 2022-22302 Filed 10-13-22; 8:45 am]

BILLING CODE 4191-02-P